NATIONAL AERONAUTICS AND SPACE ADMINISTRATION

[Notice 06-046]

National Environmental Policy Act; Crew Exploration Vehicle

AGENCY: National Aeronautics and Space Administration (NASA).

ACTION: Notice of availability of the Draft Environmental Assessment (EA) for the Development of the Crew Exploration Vehicle (CEV).

SUMMARY: Pursuant to the National Environmental Policy Act of 1969, as amended (NEPA) (42 U.S.C. 4321 et seq.), the Council on Environmental Quality Regulations for Implementing the Procedural Provisions of NEPA (40 CFR parts 1500-1508), and NASA policy and procedures (14 CFR part 1216 subpart 1216.3), NASA has prepared and issued a Draft EA for the Development of the CEV. The Proposed Action is to develop a new human-rated space vehicle, the CEV, which would be the U.S. vehicle to transport humans to Low-Earth Orbit and to the International Space Station, Moon, Mars, and to destinations beyond. The Draft EA addresses the potential environmental impacts associated with the development of the CEV, including its design, component fabrication, and assembly. However, it does not cover flight testing and operation of the CEV, which will be the subject of future NEPA documentation. The only alternative to the Proposed Action discussed in detail is the No Action Alternative where NASA would not develop the CEV.

The CEV would be able to transport up to six humans and cargo to space after the Space Shuttle is retired, which is currently scheduled to occur no later than 2010. First human flight involving the CEV is planned for no later than 2014 with initial access to Low-Earth Orbit and to the International Space Station. Human missions to the Moon are planned for no later than 2020 with missions to Mars and other destinations in the following decades. The CEV would likely be launched from NASA's Kennedy Space Center in Florida.

DATES: Written comments on the Draft EA must be received by NASA on or before August 21, 2006.

ADDRESSES: Written comments should be addressed to Mr. Mario Busacca, Mail Stop: TA-C3, Lead, Planning and Special Projects, Environmental Program Office, NASA, Kennedy Space Center, FL 32899. Although hardcopy comments are preferred, comments may be sent by electronic mail to Mario Busacca at mario.busacca-1@nasa.gov or by facsimile at 321-867-8040.

The Draft EA can be reviewed at the following NASA locations:

(a) NASA Headquarters, Library, Room 1J20, 300 E Street, SW., Washington, DC 20546-0001;

(b) Jet Propulsion Laboratory, Visitors Lobby, Building 249, 4800 Oak Grove Drive, Pasadena, CA 91109.

Hard copies of the Draft EA also may be reviewed at other NASA Centers (see SUPPLEMENTARY INFORMATION below).

Limited hard copies of the Draft EA are available, on a first request basis, by contacting Mr. Mario Busacca at the address or telephone number indicated below. The Draft EA is also available at http://exploration.nasa.gov/documents/cev_draftea.html.

FOR FURTHER INFORMATION CONTACT: Mario Busacca, Mail Stop: TA-C3, Lead, Planning and Special Projects Environmental Program Office, NASA, Kennedy Space Center, FL 32899; telephone 321-867-8456, electronic mail mario.busacca-1@nasa.gov, or facsimile 321-867-8040.

SUPPLEMENTARY INFORMATION: In his January 14, 2004 address to the Nation, President George W. Bush announced a new vision for space exploration. In pursuing this new vision, NASA has been tasked with developing the spacecraft, launch vehicles, and related technologies necessary to travel and explore the solar system. The CEV represents an important building block in this future exploration architecture.

The CEV, an Apollo-like capsule, would consist of a Crew Module, a Service Module, and a Launch Escape System. If NASA proceeds with CEV development, the Agency would contract with a commercial firm to serve as the prime contractor, with specific design, component fabrication, and assembly activities to be clarified as the CEV Project matures. CEV development activities would occur at multiple NASA facilities including, but not necessarily limited to, Johnson Space Center in Houston, Texas; Ames Research Center in Mountain View, California; Marshall Space Flight Center in Huntsville, Alabama; Glenn Research Center in Cleveland, Ohio; Langley Research Center in Hampton, Virginia; and Kennedy Space Center; and at yet to be named commercial facilities throughout the United States. These activities would be expected to be consistent with each facility's mission statement and scope of normal operations.

Environmental impacts associated with the development of the CEV would be expected to be minor (i.e., within the permitted quantities of airborne emissions, waterborne effluents, and waste disposal at each of the involved facilities) and consequently both the short- and long-term environmental impacts are expected to be within the limits of all applicable environmental statutes, regulations, permits, and licenses. No adverse impact on the local infrastructure (e.g., utilities, roadways) near the involved facilities is anticipated. There should be little incremental impact on employment levels at the facilities involved in CEV development. Thus little or no incremental socioeconomic impacts to regional economies are anticipated.

The Draft EA may be examined at the following NASA locations by contacting the pertinent Freedom of Information Office:

(a) NASA, Ames Research Center, Moffett Field, CA 94035 (650-604-3273);

(b) NASA, Dryden Flight Research Center, Edwards, CA 93523 (661-276-2704);

(c) NASA, Glenn Research Center, Cleveland, OH 44135 (216-433-2755);

(d) NASA, Goddard Space Flight Center, Greenbelt, MD 20771 (301-286-4721);

(e) NASA, Johnson Space Center, Houston, TX 77058 (281-483-8612);

(f) NASA, Kennedy Space Center, FL 32899 (321-867-2745);

(g) NASA, Langley Research Center, Hampton, VA 23681 (757-864-2497);

(h) NASA, Marshall Space Flight Center, Huntsville, AL 35812 (256-544-1837); and

(i) NASA, Stennis Space Center, MS 39529 (228-688-2118).

If and when developed, the CEV would undergo testing and flight certification prior to operational use. These actions would be the subject of future NEPA documentation.

Written public input and comments on alternatives and environmental issues and concerns associated with the development of the CEV are hereby requested.

Olga M. Dominguez,
Assistant Administrator for Infrastructure and Administration.

[FR Doc. E6-11522 Filed 7-19-06; 8:45 am]

BILLING CODE 7510-13-P